DEPARTMENT OF HOUSING AND URBAN DEVELOPMENT

[Docket No. FR-7077-N-20]

Privacy Act of 1974; System of Records

AGENCY: Office of the Chief Financial Officer, HUD.

ACTION: Notice of a new system of records.

SUMMARY: Under the Privacy Act of 1974, as amended, the Department of the Housing and Urban Development (HUD), Office of the Chief Financial Officer (OCFO), is issuing a public notice of its intent to create a new system of records, Voice of the Customer (VoC). HUD has developed VoC system of records to satisfy the Executive Order 14058, on Transforming Federal Customer Experience and Service Delivery to Rebuild Trust in Government, issued on December 13, 2021. The VoC platform provides customers with the ability to share their likes and dislikes about HUD's products or services. Customers feedback lets HUD focus on improving areas that would result in customer satisfaction and improve trust in the Federal Government.

DATES: Comments will be accepted on or before November 3, 2023. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139; Washington, DC 20410; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This system allows HUD to build surveys of varying complexity, distribute surveys via different delivery methods, centrally manage customer feedback data, and enable enterprise-wide qualitative and quantitative data analysis on both data collected through the system and data imported into the system.

The Voice of the Customer data can come in through a variety of ways. It can be a web/paper survey, a phone call, an email, or anything having all that separate data on one platform will help OCFO's Customer Experience team hear what customers have to say holistically.

The gathered feedback is both customer and employee experience data as it pertains to their interactions with HUD. Contact information will be requested, but is voluntary/optional, and is only collected/used for future research. This would include gathering a person's name and contact information they are willing to provide (email or phone number). This data would be used for research purposes only to further investigate how to improve customers' experiences with HUD. These interactions would include moments when the customer/employee interacts with HUD (For example, a customer visits the HUD website for information, or an employee visits the intranet for information). The data would be collected via surveys or conversations regarding their experience within that specific moment and/or overall experience.

SYSTEM NAME AND NUMBER:

Voice of the Customer (VoC), HUD/OCFO-02.

SECURITY CLASSIFICATION:

Unclassified.

SYSTEM LOCATION:

Medallia GovCloud is hosted within Amazon Web Services (AWS) Inc.; 12900 Worldgate Dr., Suite 800, Herndon VA 20170.

SYSTEM MANAGER(S):

Katherine M. Darling, Assistant Chief Financial Officer for Systems, Office of the Chief Financial Officer, Department of Housing and Urban Development, 451 Seventh Street SW, Room 3100, Washington, DC 20410-1000; Phone (202) 402-3912.

AUTHORITY FOR MAINTENANCE OF THE SYSTEM:

This system is authorized by section 2 of The Department of Housing and Urban Development Act of 1965, 42 U.S.C. 3531; and Executive Order 14058, on Transforming Federal Customer Experience and Service Delivery to Rebuild Trust in Government.

PURPOSE(S) OF THE SYSTEM:

HUD's Office of the Chief Financial Officer (OCFO) maintains the Voice of the Customer (VoC) system of records. The VoC Customer Experience (CX) is a FedRAMP Software as a Service (SaaS) system and services for enterprise-wide Customer Experience Management (CXM). The VoC system, Medallia Experience Cloud (MEC), will allow HUD and its internal program offices to build surveys of varying complexity, distribute surveys via different delivery methods, centrally manage customer feedback data, and enable enterprise-wide qualitative and quantitative data analysis on both data collected through the system and data imported into the system.

CATEGORIES OF INDIVIDUALS COVERED BY THE SYSTEM:

Members of the Public, HUD Employees, and contractors.

CATEGORIES OF RECORDS IN THE SYSTEM:

Name, Email address (work/personal), Phone Number (work/personal).

RECORD SOURCE CATEGORIES:

Records are obtained from individuals who participated in the customer satisfaction surveys, Housing Discrimination Process Survey and Salesforce HUD Central.

ROUTINE USES OF RECORDS MAINTAINED IN THE SYSTEM, INCLUDING CATEGORIES OF USERS AND PURPOSES OF SUCH USES:

(1) To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

(2) To a congressional office from the record of an individual, in response to an inquiry from the congressional office made at the request of that individual.

(3) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, to otherwise support the Department's mission, or for other research and statistical purposes not otherwise prohibited by law or regulation. Records under this routine use may not be used in whole or in part to make decisions that affect the rights, benefits, or privileges of specific individuals. The results of the matched information may not be disclosed in identifiable form.

(4) To contractors, grantees, experts, consultants and their agents, or others performing or working under a contract, service, grant, cooperative agreement, or other agreement with HUD, when necessary to accomplish an agency function related to a system of records. Disclosure requirements are limited to only those data elements considered relevant to accomplishing an agency function.

(5) To contractors, experts and consultants with whom HUD has a contract, service agreement, or other assignment of the Department, when necessary to utilize relevant data for the purpose of testing new technology and systems designed to enhance program operations and performance.

(6) To appropriate agencies, entities, and persons when (1) HUD suspects or has confirmed that there has been a breached of the system of records, (2) HUD has determined that as a result of the suspected or confirmed breach there is a risk of harm to individuals, (including its information systems, programs, and operations), the Federal Government, or national security;(3) and the disclosure made to such agencies, entities, and persons is reasonably necessary to assist in connection with HUD's efforts to respond to the suspected or confirmed breach or to prevent, minimize, or remedy such harm.

(7) To another Federal agency or Federal entity, when HUD determines that information from this system of records is reasonably necessary to assist the recipient agency or entity (1) responding to a suspected or confirmed breach or (2) preventing, minimizing, or remedying the risk of harm to individuals, the recipient agency or entity (including its information systems, programs, and operations), the Federal Government, or national security, resulting from a suspected or confirmed breach.

(8) To appropriate Federal, State, local, Tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

(9) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (a) HUD, or any component thereof; or (b) any HUD employee in his or her official capacity; or (c) any HUD employee in his or her individual capacity where HUD has agreed to represent the employee; or (d) the United States, or any agency thereof, where HUD determines that litigation is likely to affect HUD or any of its components.

(10) To any component of the Department of Justice or other Federal agency conducting litigation or in proceedings before any court, adjudicative, or administrative body, when HUD determines that the use of such records is relevant and necessary to the litigation and when any of the following is a party to the litigation or have an interest in such litigation: (a) HUD, or any component thereof; or (b) any HUD employee in his or her official capacity; or (c) any HUD employee in his or her individual capacity where the Department of Justice or agency conducting the litigation has agreed to represent the employee; or (d) the United States, or any agency thereof, where HUD determines that litigation is likely to affect HUD or any of its components.

(11) To the Office of Management and Budget, in order to comply with Circular A-11, part 6, section 280 reporting requirements. Records provided under this routine use will be de-identified and may become publicly available on performance.gov.

POLICIES AND PRACTICES FOR STORAGE OF RECORDS:

Electronic only.

POLICIES AND PRACTICES FOR RETRIEVAL OF RECORDS:

Name and work email addresses.

POLICIES AND PRACTICIES FOR RETENTION AND DISPOSAL OF RECORDS:

Temporary—Destroy 1 year after resolved, or when no longer needed for business use, whichever is appropriate.

ADMINISTRATIVE, TECHNICAL, AND PHYSICAL SAFEGUARDS:

Voice of the Customer (VoC) Customer Experience (CX) uses Medallia, which is a FedRAMP Software as a Service (SaaS) system and services for enterprise-wide Customer Experience Management (CXM). They are responsible for implementing the physical, administrative, and technical security/privacy controls. In addition, HUD employees/contractors who access this system must first log into the HUD network using their PIV card and PIN number.

Medallia provides secure and controlled access to systems and data. Medallia's data access controls and authorizations determine what a user can and cannot do after logging in. Medallia supports a fine-grained authorization model, allowing an administrator to grant access based on user groups/roles, organization hierarchy, and data permissions. Medallia also offers predefined user roles, automatically masking personal or other sensitive data, by obscuring fields from unauthorized users. The masking feature supports Health Insurance Portability and Accountability Act (HIPAA) and other regulations.

Records are secured with the data at rest (AWS volume encryption is applied) and data in transit encryption (data transmission over https protocols).

RECORD ACCESS PROCEDURES:

Individuals requesting records of themselves should address written inquiries to the Department of Housing and Urban Development, 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing and Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

N/A.

HISTORY:

N/A.

LaDonne White,
Chief Privacy Officer, Office of Administration.

[FR Doc. 2023-21975 Filed 10-3-23; 8:45 am]

BILLING CODE 4210-67-P